DEPARTMENT OF COMMERCE

National Oceanic and Atmospheric Administration

[I.D. 053000A]

Submission for OMB Review; Proposed Information Collection; Comment Request

The Department of Commerce has submitted to the Office of Management and Budget (OMB) for clearance the following proposal for collection of information under the provisions of the Paperwork Reduction Act (44 U.S.C. Chapter 35).

Agency: National Oceanic and Atmospheric Administration (NOAA).

Title: Reporting Requirements for Commercial Fisheries Authorization under Section 118 of the Marine Mammal Protection Act.

Agency Form Number(s): None.

OMB Approval Number: 0648-0292.

Type of Request: Regular submission.

Burden Hours: 1,500.

Number of Respondents: 10,000.

Average Hours Per Response: 9 minutes.

Needs and Uses: Under provisions of the Marine Mammal Protection Act (MMPA), owners or operators of commercial fishing vessels must report all incidental mortality or serious injury of marine mammals in the course of commercial fishing operations.

Affected Public: Business or other for-profit institutions, and individuals.

Frequency: On occasion.

Respondent's Obligation: Mandatory.

OMB Desk Officer: David Rostker, (202) 395-3897.

Copies of the above information collection proposal can be obtained by calling or writing Linda Engelmeier, DOC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: May 25, 2000.
Madeleine Clayton,
Management Analyst, Office of the Chief Information Officer.

[FR Doc. 00-13852 Filed 6-1-00; 8:45 am]

BILLING CODE 3510-22-F